DEPARTMENT OF TRANSPORTATION

National Highway Traffic Safety Administration

49 CFR Parts 567, 571, 574, 575, and 597

[Docket No. NHTSA-04-17917]

RIN 2127-AJ36

Tire Safety Information

AGENCY: National Highway Traffic Safety Administration (NHTSA), Department of Transportation.

ACTION: Final rule; response to petitions for reconsideration.

SUMMARY: This document responds to petitions for reconsideration requesting changes to the final rule published on November 18, 2002 (November 2002 final rule). That final rule adopted new and revised tire safety information provisions in response to the Transportation Recall Enhancement, Accountability, and Documentation (TREAD) Act of 2000. Specifically, the November 2002 final rule established a new Federal Motor Vehicle Safety Standard requiring improved labeling of tires to assist consumers in identifying tires that may be the subject of a safety recall. Further, the rule required other consumer information to increase public awareness of the importance and methods of observing motor vehicle tire load limits and maintaining proper tire inflation levels for the safe operation of a motor vehicle. The November 2002 final rule applied to all new and retreaded tires for use on vehicles with a gross vehicle weight rating (GVWR) of 10,000 pounds or less and to all vehicles with a GVWR of 10,000 pounds or less, except for motorcycles and low speed vehicles.

After considering the petitions and other available information, the agency is modifying certain aspects of its November 2002 final rule.

DATES: The final rule published at 67 FR 69600 (November 18, 2002), as amended at 68 FR 33655 (June 5, 2003) by delaying the effective date, and further amended at 68 FR 37981 (June 26, 2003), is further amended by delaying the effective date from September 1, 2004, to September 1, 2005. Additionally, the amendments in this rule are effective September 1, 2005. Voluntary compliance is permitted before that time.

FOR FURTHER INFORMATION CONTACT: For technical and policy issues: Ms. Mary Versailles, Office of Planning and Consumer Standards. Telephone: (202) 366-2750. Fax: (202) 493-2290. Mr. Joseph Scott, Office of Crash Avoidance Standards, Telephone: (202) 366-2720. Fax: (202) 366-4329.

For legal issues: George Feygin, Attorney Advisor, Office of the Chief Counsel, NCC-20. Telephone: (202) 366-2992. Fax: (202) 366-3820.

All of these persons may be reached at the following address: National Highway Traffic Safety Administration, 400 7th Street, SW., Washington, DC 20590.

SUPPLEMENTARY INFORMATION:

Table of Contents

I. Summary of Decision

II. Background

III. Petitions for Reconsideration

IV. Discussion and Analysis

A. Tire Sidewall Labeling

1. Placement of TIN

2. Height of TIN

3. Other

a. “Maximum permissible inflation pressure” Requirements

b. Date Code

B. Vehicle Placard and Label

1. Content

2. Location

3. Color

4. Trailers

5. Multistage Manufacturers

6. School Buses

7. Other

C. Applicability of FMVSS No. 110 and 120

D. Effective Date

E. Conforming Amendments

V. Rulemaking Notices and Analyses

A. Executive Order 12866 and DOT Regulatory Policies and Procedures

B. Regulatory Flexibility Act

C. National Environmental Policy Act

D. Executive Order 13132 (Federalism)

E. Unfunded Mandates Act

F. Civil Justice Reform

G. Paperwork Reduction Act

H. Privacy Act

VI. Regulatory Text

I. Summary of Decision

In response to the November 2002 final rule, which adopted new and revised tire safety information provisions,¹ NHTSA received petitions for reconsideration from tire and vehicle manufacturers and associations. These petitions addressed various aspects of the new tire labeling and vehicle labeling requirements, including Tire Identification Number (TIN) placement, TIN height, location of the vehicle placard and label, content of vehicle placard, label, and owner's manual, and the effective dates for all applicable requirements.²

¹ For more information on the final rule subject to this notice, please see 67 FR 69600 (November 18, 2002).

² To see the of all the comments, please go to http://dms.dot.gov/ (Docket No. NHTSA-2002-13678).

After considering the petitions and other available information, the agency is modifying certain aspects of both, tire labeling and vehicle labeling requirements. We are also clarifying content requirements for the vehicle placard, label, and the owner's manual. The following is a partial list of changes to the final rule:

• Retread tires are to be excluded from requirement that partial TIN be on the opposite sidewall from full TIN,

• A barcode or identification number will be permitted on the vehicle placard and label in a specified location,

• Tire load indications, “XL” or “Reinforced,” will be permitted to be placed on the vehicle placard and label,

• On the vehicle placard and label, the “compact spare tire” designation will be modified to be “spare tire” or “spare,''

• Use of red ink on the placard and label is clarified and allowance is made for the use of either black text on a yellow background or yellow text on a black background where currently specified,

• The chart within the Vehicle Placard of Figure 1 is re-formatted to be identical to the chart within the Tire Inflation Pressure Label of Figure 2,

• Reference to “occupants” is be removed from trailer placards and trailer owner's manuals, and

• Incomplete and intermediate vehicle manufacturers are not allowed to affix a placard to an incomplete vehicle.

This rulemaking also extends the effective date for compliance with vehicle labeling requirements for one year. The new effective date for the vehicle labeling requirements is September 1, 2005. The phase-in for the tire sidewall labeling requirements will begin on September 1, 2005. Additionally, the requirement that tire manufacturers apply the full TIN on the “intended outboard sidewall” is no longer subject to the phase in schedule. Instead, the tire manufacturers may select which sidewall will contain the full TIN until September 1, 2009, at which time all tires will have to contain the full TIN on the “intended outboard sidewall.” All other tire labeling requirements, including the requirements for the partial TIN, will continue to be subject to the phase-in schedule. The phase-in schedule for all tire labeling requirements, other than full TIN on the “intended outboard sidewall,” is as follows:

Between 9/1/2005 and 8/31/2006 | 40% of all tires subject to the November 2002 final rule must comply.
Between 9/1/2006 and 8/31/2007 | 70% of all tires subject to the November 2002 final rule must comply.
On September 1, 2007 | 100% of all tires subject to the November 2002 final rule must comply.

II. Background

The Transportation Recall Enhancement, Accountability, and Documentation (TREAD) Act of 2000, Pub. L. 106-414, required the agency to address numerous matters through rulemaking. One of these matters, set forth in section 11 of the Act, was the improvement of the labeling of tires required by section 30123 of title 49, United States Code, to assist consumers in identifying tires that may be the subject of a recall.

Additionally, section 11 provided that the agency may take whatever additional action it deemed appropriate to ensure that the public is aware of the importance of observing motor vehicle tire load limits and maintaining proper tire inflation levels for the safe operation of a motor vehicle. Section 11 stated that such additional action may, for example, include a requirement that the manufacturer of motor vehicles provide the purchasers of the motor vehicles with information on appropriate tire inflation levels and load limits if the agency determined that requiring such manufacturers to provide that information was the most appropriate way that the information can be provided.

In response to this mandate, NHTSA issued the November 2002 final rule establishing a single standard for light vehicle tires, FMVSS No. 139, New Pneumatic Tires for Light Vehicles.³ It also established provisions for labeling requirements that address the following aspects of tire and vehicle labeling: tire markings, the Tire Identification Number (TIN), vehicle placard content and format, placard location, and owner's manual information. The rule applied to all new and retreaded tires for passenger cars, multipurpose passenger vehicles, trucks, buses and trailers with a gross vehicle weight rating (GVWR) of 4,536 kg (10,000 pounds) or less, manufactured after 1975, and to all passenger cars, multipurpose passenger vehicles, trucks, buses and trailers with a gross vehicle weight rating (GVWR) of 4,536 kg (10,000 pounds) or less.⁴ The performance-based requirements of FMVSS No. 139, and their applicability, are addressed in the final rule on tire performance upgrade (68 FR 38116).

³ Section 10 of the Transportation Recall Enhancement, Accountability, and Documentation (TREAD) Act mandated that the agency issue a final rule to revise and update its tire performance standards. The performance-based requirements of FMVSS No. 139, and their applicability, are addressed in the final rule on tire performance upgrade (June 26, 2003; 68 FR 38116).

⁴ Therefore, this standard is applicable to LT tires up to load range E. This load range is typically used on large SUVs, vans, and trucks.

In separate documents, dated June 5, 2003 (68 FR 33655), and June 26, 2003 (68 FR 37981), the agency clarified the applicability of the November 2002 final rule and extended the mandatory compliance date of the vehicle labeling provisions from September 1, 2003, to September 1, 2004.

III. Petitions for Reconsideration

NHTSA received petitions for reconsideration of the November 2002 final rule from the following entities: Alliance of Automobile Manufacturers (Alliance), Volkswagen (VW), Rubber Manufacturers Association (RMA), European Tyre and Rim Technical Organization (ETRTO), Japan Automobile Tyre Manufacturers Association (JATMA), Hankook Tire Co. (Hankook), Tire Industry Association (TIA), and Thomas Built Buses (Thomas Built).

NHTSA also received untimely submissions from the National Truck Equipment Manufacturers Association (NTEA), General Motors (GM), National Association of Trailer Manufacturers (NATM), National Marine Manufacturers Association (NMMA), Recreational Vehicle Industry Association (RVIA), and JATMA (a separate submission, requesting additional leadtime). Section 553.35 of title 49, CFR, requires that petitions for reconsideration of a final rule be received not later than 45 days after the publication of that rule in the Federal Register. That section further provides that untimely petitions are treated by the agency as petitions for rulemaking. However, untimely petitions received in connection with the November 2002 final rule addressed issues substantively similar to those raised by the timely petitions and therefore, we are addressing and responding all submissions in this document.

The petitioners raised a variety of issues, including ones relating to the placement of the TIN, the TIN date code, the TIN height, maximum permissible inflation pressure requirements, additions to the vehicle placard, alternative locations of the vehicle placard, color requirements for the vehicle placard, placard content and location for trailers, effective dates, owner's manual information, and the applicability of FMVSS No. 110. All issues raised in the petitions for reconsideration are addressed in the Discussion and Analysis section below.

IV. Discussion and Analysis

A. Tire Sidewall Labeling

1. Placement of TIN

As expressed in paragraph S5.5.1 of FMVSS No. 139, the November 2002 final rule required that the full TIN is placed on the “intended outboard sidewall” of the tire, and either the full TIN or a partial TIN, containing all aspects of the TIN except for the date code, is placed on the opposite side. “Intended outboard sidewall” is defined in FMVSS No. 139 as the sidewall that contains a whitewall, bears white lettering, or bears manufacturer or model name molding that is higher or deeper than that on the other sidewall of the tire. If a tire does not have an intended outboard sidewall, the tire must be labeled with the full TIN on one sidewall and with either the full TIN or a partial TIN on the other sidewall.

Five petitioners raised issues regarding the placement of the TIN. JATMA argued that the agency should give tire manufacturers flexibility in determining the placement of the full TIN. RMA asserted that the agency should allow the full TIN to be placed on the opposite side from the sidewall with white lettering. RMA noted that NHTSA acknowledged that there are cost implications, technical issues, and worker safety concerns associated with requiring a full TIN in the top half of a tire mold. Because the “intended outboard sidewall” is usually in the top half of the mold, RMA states, the only way to comply with the final rule and eliminate work safety concerns is to “flip” these molds or replace them with a new molds with the “intended outboard sidewall” in the bottom half of the mold. According to RMA, flipping or replacing the molds will have significantly higher costs, $224,524,000, than those estimated by NHTSA. Further, RMA argues that this provision of the final rule only marginally improves the visibility of recall information.

NHTSA is not adopting JATMA's request that the agency indefinitely allow the tire manufacturers to place the full TIN on sidewall of their choosing. As discussed throughout this rulemaking, requiring that the full TIN appear on the sidewall of the tire most accessible by consumers is the best means of ensuring that a consumer can easily determine whether a tire is subject to recall without having to take the vehicle to a dealer for examination. Further, enabling a consumer to have easy access to this important recall information was a major component of Congressional testimony on the issue of tire safety information.

In the November 2002 final rule, the agency stated that 80% of tires potentially subject to a “typical” recall could be eliminated from the recall based on the information contained in the partial TIN. However, we noted that the partial TIN is less useful in situations where several manufacturing plants are involved in a recall.

Although we are not allowing manufacturers indefinite flexibility in determining placement of the full TIN, we do acknowledge RMA's concern associated with cost implications of replacing and flipping molds in order to comply with full TIN requirements. As previously discussed in the November 2002 final rule, all tire manufacturers had indicated that current molds typically last up to five years. Accordingly, in order to alleviate the cost burden associated with reworking and replacing current molds, the agency has decided to provide manufacturers with a five year lead time during which they have the flexibility to select which sidewall of their tires will contain the full TIN. For this five-year time period, the manufacturers may select which sidewall will contain the full TIN. However, by September 1, 2009, all tires must feature the full TIN on the “intended outboard sidewall.” We note that all other tire labeling requirements, including the requirements for the partial TIN, will continue to be subject to the phase-in schedule discussed above.

NHTSA believes that this action, while easing the task of compliance, will not prove detrimental to the goal of making more tire safety information available to consumers. The benefits from the requirement that the partial TIN appear on the opposite sidewall of the full TIN will be available by 2007, when 100% of tires will be required to be manufactured with a full TIN on one sidewall and a partial TIN on the other. The partial TIN will be helpful in allowing consumers to determine more easily whether their tires are subject to a recall.

JATMA's petition also asked NHTSA to amend the final rule to allow directional tires ⁵ to have the full TIN placed on one sidewall and no partial TIN on the other sidewall. JATMA argued that directional tires do not have an intended outboard sidewall and that when the tires are mounted in pairs in the same rotating direction, the full TIN will always be outward on one side of the vehicle.

⁵ Directional tires have directional tread designs (sometimes called unidirectional tread designs). The tire is intended to rotate in just one direction, so that certain characteristics, such as resistance to irregular wear, wet weather handling or road feel can be enhanced.

We do not agree with JATMA that the partial TIN is unnecessary for directional tires. The agency does not believe that directional tires will always be installed in pairs on all vehicles, and that each pair of tires will necessarily contain the same TIN. Since these tires will not necessarily be installed in matching pairs, the TIN exposed on one tire on one side of the vehicle, would not necessarily be indicative of whether the tire on the other side of the vehicle would be subject to the recall in question. Furthermore, in situations where both left side and right side directional tires are manufactured from a single mold, the full TIN would appear on the outboard sidewall only 50% of the time.

Similarly, the agency considered asymmetrical tires,⁶ which when mounted correctly, always have the intended outboard sidewall exposed. Again however, there is a possibility that asymmetrical tires would be mounted incorrectly, thus obscuring the only available TIN.

⁶ Asymmetrical tires have a tread pattern design that changes across the tire (from bead to bead), often with a change in tread rubber compounds.

While directional and asymmetrical tires are not very common, we believe that a uniform requirement of a full TIN on one sidewall and a partial TIN on the other sidewall of all tires would best advance our goal of enabling consumers to determine whether their tires are subject to a recall. As discussed above, we also believe that TIN should be available on both sidewalls because we are concerned that the directional and asymmetrical tires may be mounted incorrectly or not necessarily in pairs. Accordingly, the agency is not adopting the petitioner's request.

ETRTO, JATMA and Hankook requested in their petitions that the agency amend the final rule to permit tire manufacturers to mark the optional code of the TIN on only one side of the tire. They argued that changing the mold to accommodate the optional code on both sides of the tire raises the same safety concerns that arise when changing the date code and that this additional marking incurs additional costs which were not quantified in the rulemaking. They also asserted that manufacturers should not be required to include the optional information in the partial TIN even though they decided to include it in the full TIN.

The optional code represents the third grouping of numbers, up to 4 digits, which may be added to the TIN at the option of the manufacturer and used as a descriptive code for identifying significant characteristics of the tire. We agree with the petitioners that since the use of this code is optional, it should be entirely optional so that the manufacturer can include it in either the full TIN, or the partial TIN or in neither. The decision to make the use of this code fully optional will not impinge on the efficacy of recall actions because we believe that the required information in the full TIN and partial TIN is sufficient to enable the consumer to determine whether a given tire is subject to a recall.

TIA petitioned the agency to amend the final rule to exclude retreaded tires from the requirement to have the TIN information on both sidewalls and the full TIN on the “intended outboard sidewall” of the tire. TIA argued that the main purpose of TREAD was to facilitate recalls and since retreaded tires have never been subject to a recall, the application of new TIN labeling provisions to retreads is unnecessary. Additionally, they argue that consumers of retreads are more sophisticated about tire labeling and are more likely to mount tires so that this information is readily visible. Further, TIA stated that the molding costs for placing the TIN on both sidewalls or on the intended outboard sidewall is higher than NHTSA estimated for retreaders and that these costs bring the costs of retreads closer to the costs of new tires which, consequently, will drive many retreaders out of an already shrinking market.

While the agency does not necessarily agree with TIA's assertions concerning greater sophistication of retread tire users or TIA's costs estimates, the agency does agree that the tire safety information recall provisions of TREAD would have very little effect on consumer information because retreads, besides being a very small part of the light vehicle tire market, have never been involved any NHTSA recall action. Accordingly, the agency is granting TIA's request to exclude retread tires from the requirement to have the TIN information on both sidewalls and the full TIN on the “intended outboard sidewall” of the tire. Based on the very small market share and lack of recall history, retread tires containing the full TIN on one, unspecified sidewall, without additional partial TIN, should present no significant safety concerns for consumers.

2. Height of TIN

As specified in § 574.5, the November 2002 final rule requires that each character in the TIN be 6 mm (¼”) high. Prior to the November 2002 final rule, all portions of the TIN were required to be a ¼” in height, except for the date code, which was required to be 5/32”. The agency stated that a requirement for a uniform TIN font size would significantly improve the readability of the TIN.

ETRTO, JATMA and RMA petitioned the agency asking that tires under 13-inch bead diameter or 6-inch cross section be excluded from the TIN height requirement. They asserted that prior to a July 8, 1999 final rule, tires of these cross-section widths and bead diameters were permitted to use 5/32” lettering instead of the ¼” lettering. This 5/32” provision, they argue, was “unintentionally omitted” from the published revisions to Figures 1 and 2 of § 574.5 in the July 8, 1999, final rule.⁷

⁷ The July 8, 1999, final rule amended tire labeling requirements to change the date code from 3 digits to 4 digits rather than 3, see 64 FR 36807.

The agency is not adopting the petitioners' request for two reasons. First, based on an informal survey of tires with the size bead diameter or cross section that are the subject of this request conducted, we were unable to find a single tire of this type that did not already meet the 6 mm (¼ ”) height requirement.⁸ Additionally, the agency's adoption of the 6 mm uniform height TIN, which occurred subsequent to the alleged “unintentional omission,” was based on previous rulemakings and consideration of comments on the ANPRM and NPRM that almost unanimously indicated that a smaller font size for the TIN was not sufficient. Based on the agency's research and the safety implications associated with the font height of the TIN, we are retaining the uniform 6mm (¼”) height requirement for tires with under a 13-inch bead diameter or a 6-inch cross section.

⁸ See docket No. NHTSA-2002-13678-30.

3. Other

a. “Maximum Permissible Inflation Pressure” Requirements

In the November 2002 final rule, the agency extended the “maximum inflation pressure” labeling requirements to light truck tires. This provision is expressed in paragraph S5.5.6 of FMVSS No. 139.

RMA, in its petition, asked the agency to make it clear that the “maximum permissible inflation pressure” requirements in S5.5.4 apply only to passenger car tires and that the requirements in S5.5.5 apply only to high-pressure temporary spare tires. RMA's primary concern appears to involve S5.5.4, which, it stated, would require manufacturers to stamp LT tires with new maximum inflation pressures if this paragraph were interpreted to apply to LT tires as well as to p-metric tires. RMA stated that this would occur because, under S5.5.4, manufacturers of LT tires would be required to stamp LT tires with new maximum inflation pressure values since it requires rounding to the “next higher whole number” or “nearest high number” while, in contrast, light truck standards and tire markings are rounded to the “closest 5 pounds” for the maximum load rating or the “closest psi.”

In response to RMA's request that we restrict applicability of S5.5.4 and S5.5.5 to only passenger car tires and high-pressure temporary spare tires, we have decided to revise the applicability of S5.5.4, but not S5.5.5. We agree with RMA's assertions concerning applicability of S5.5.4 to LT tires. The “maximum inflation pressure” labeling requirements for light trucks are in S5.5.6. However, without specification, S5.5.4 could mistakenly be interpreted to apply to LT tires, especially since S5.5.6 does not appear until after S5.5.4. With regard to S5.5.5, the agency does not believe that it is necessary to amend this paragraph to specify that it is only applicable to high-pressure temporary spare tires. S5.5.5 currently specifies that its “maximum permissible inflation pressure” provisions are only applicable if the maximum inflation pressure of the tire is 420 kPa (60 psi). Currently, none of the values in the industry yearbooks provides a maximum load at 420 kPa for LT tires. Accordingly, we do not anticipate any confusion concerning application of S5.5.5 to anything other than temporary spare tires.

b. Date Code

In its petition, RMA expressed two concerns with the final rule's modifications to § 574.5(d), which specifies the fourth grouping requirements of the TIN. RMA's first concern stems from the first sentence of the paragraph which states “[f]or tires produced or retreaded according to the phase-in schedules specified in S7 of §§ 571.117, 571.129, 571.139 of this chapter, the fourth grouping, consisting of four numerical symbols, must identify the week and year of manufacture.”

RMA read this provision as limiting the applicability of § 574.5(d) to light vehicle tires subject to the phase-in schedules in the final rule. RMA argued that tires not subject to the phase-in schedule should continue to be marked with the full TIN, including the 4-digit date code. RMA requested the deletion of the phrase “[f]or tires produced or retreaded according to the phase-in schedules specified in S7 of §§ 571.117, 571.129, 571.139 of this chapter,” so that all light vehicle tires, not only those subject to the phase-in schedule under the final rule, are covered by the 4-digit date code requirement in the fourth grouping.

We agree with RMA that the phrase “[f]or tires produced or retreaded according to the phase-in schedules specified in S7 of §§ 571.117, 571.129, 571.139 of this chapter,” unnecessarily limits the application of fourth grouping requirements to light vehicle tires under the final rule phase-in schedules. This was not the intention of the requirement. Therefore, we are adopting RMA's request to delete the aforementioned sentence from the regulatory text.

RMA's second concern arises from the third sentence of § 574.5(d) which reads “[t]he calendar week runs from Sunday through the following Saturday.” RMA argued that the introduction of an inflexible definition on a non-safety matter is unreasonable and impracticable. RMA stated that this revision would result in unnecessary lost production costs because it would force some manufacturers, which operate on a continuous basis (24 hours per day, 7 days per week) to change all of their date codes at one time. RMA requested that the agency delete the definition of “calendar week” in this provision.

NHTSA is not adopting RMA's request regarding the definition of “calendar week.” The agency, since May 10, 2001, has interpreted the “calendar” week as it is now defined by the November 2002 final rule in § 574.5(d). In this interpretation, we stated that to allow alternative definitions of “calendar week” could lead to obscuration, confusion or otherwise defeat the purpose of this information vital for the safe use of tires.⁹ Unlike RMA, we believe that the date code, as well as other required aspects of the TIN, constitute a “safety matter.” Further, we continue to believe that needless confusion, in either the production or consumer usage of the fourth grouping, might occur if we were to allow manufacturer to employ different definitions of “calendar week.” Finally, we note that the date code requirement is a record keeping requirement that will have no actual bearing on the way tire manufacturers choose to operate their production facilities.

⁹ See NHTSA interpretation letter to Dae-Ki Min of Hankook Tire at http://www.nhtsa.dot.gov/cars/rules/interps/.

B. Vehicle Placard and Optional Tire Inflation Pressure Label

In the November 2002 final rule, the agency revised existing Vehicle Placard (placard) requirements and introduced optional Tire Inflation Pressure Label (label) requirements. Previously, the placard was required for passenger cars under S4.3 of § 571.110. The final rule extended this requirement to all light vehicles with a GVWR of 10,000 pounds or less.¹⁰ The placard currently displays the vehicle capacity weight, the designated seating capacity, the vehicle manufacturer's recommended cold tire inflation pressure for maximum loaded vehicle weight, and the manufacturer's recommended tire size designation. Under the final rule, the manufacturers could either affix the newly required placard, or the current placard coupled with a tire inflation pressure label, to the driver's side B-pillar.

¹⁰ FMVSS No. 120 currently requires that each motor vehicle other than a passenger car show, on the label required by § 567.4, or on a tire information label (S5.3(b)), the tire size designation and recommended cold inflation pressure such that the sum of the load ratings on the tires on each axle (when the tire's load carrying capacity at the specified pressure is reduced by dividing 1.10, in the case of a tire subject to FMVSS No. 109, i.e., a passenger car tire) is appropriate for the GAWR, and the size and type designation of rims appropriate for those tires.

The placard and label content requirements are listed below.

First, we required that the placard contain certain information specified in S4.3 (paragraphs (a)-(e)).¹¹ This information cannot be combined with any other additional information.

¹¹ (a) Vehicle capacity weight expressed as “The combined weight of occupants and cargo should never exceed xxx kg or xxx lbs.”; (b) Designated seating capacity (expressed in terms of total number of occupants and in terms of occupant for each seat location); (c) Vehicle manufacturer's recommended cold tire inflation pressure; (d) Tire size designation for the tire installed as original equipment on the vehicle by the vehicle manufacturer; and (e) The statement “SEE OWNER'S MANUAL FOR ADDITIONAL INFORMATION.”

Second, the agency required that the label and placard meet the following three requirements: (1) The tire inflation pressure information in the placard must be visually separated by a red border from the other information on the existing vehicle placard or, alternatively, be placed on a separate label. The purpose of this requirement is ensure that the information is noticeable and explicit; (2) the placard and label must contain a black and white tire symbol icon in the upper left corner, 13 millimeters (.51 inches) wide and 14 millimeters (.55 inches) tall/high; and (3) the placard and label include the phrases “Tire and Loading Information”; and “Tire Information” and “See Owner's Manual For Additional Information” in yellow text on a black background.

Third, the agency replaced the vehicle capacity weight statement on the vehicle placard with the following sentence: “[t]he combined weight of occupants and cargo should never exceed XXX kg or XXX pounds.” The “XXX” amount equals the “vehicle capacity weight” of the vehicle as defined in FMVSS No. 110. The information is the same as that currently required to be placed on the vehicle placard by manufacturers.

Fourth, the agency replaced the vehicle's recommended tire size designation with the tire size designation for the tires installed as original equipment on the vehicle by the vehicle manufacturer. While in most instances these two numbers would be identical, this minor revision ensures that the consumer is provided with the correct tire inflation pressure information for the tire size actually installed on his vehicle as original equipment by the vehicle manufacturer. The original tire size designation and accompanying recommended inflation pressure is indicated by the headings “original tire size” or “original size” on the placard or label.

The final rule required that the placard or placard and label be located on the driver's side B-pillar. If a vehicle does not have a B-pillar, then the placard and label will be placed on the edge of the driver's door. If the vehicle does not have a driver's side B-pillar and the driver's side door edge is too narrow or does not exist, the placard or placard and label are required to be affixed to the inward facing surface of the vehicle next to the driver's seating position.

1. Content

Numerous petitioners requested that the agency allow or require certain additional information on the vehicle placard. Majority of these requests had been previously considered and addressed by the agency in previous stages of this rulemaking. These issues are addressed below.

The Alliance and RMA asked the agency to amend the final rule to allow the service description (load index and speed-category rating) to be placed on the placard or label. In the final rule, NHTSA stated that it had decided to prohibit placing the service description on the placard and label because it “does not provide readily apparent or available information to consumers and would make it necessary for a vehicle operator to look to an index in the owner's manual or a tire industry publication to determine the actual tire maximum load.” The Alliance, in its petition, stated that because this information is only pertinent to tire replacement and not important for everyday maintenance, consumers need not understand the meaning of the symbols but only need to match the symbols when replacing tires. The Alliance also stated that only allowing this information to be contained in the owner's manual means that it is less likely that the information will stay with the vehicle for its entire life. RMA similarly argued that, even with the maximum load rating listed on the consumer's existing tires, replacement tires are less likely to be mismatched if the tire service description is included on the placard and/label.

VW petitioned the agency to amend the final rule to allow the following on the vehicle placard or tire inflation pressure label: (1) Optional tire sizes and applicable inflation pressures, (2) different tire pressures for various loading conditions or driving speeds, (3) references to the presence and location of additional labels in other locations with inflation pressure information, and (4) multiple tire size and rim designation with analogous GAWRs and GVWRs.

Similarly, the Alliance asked the agency to clarify whether the listing of optional tire sizes and applicable inflation pressures and different tire pressure for various loading conditions or driving speeds is permitted. The Alliance also requested that the agency allow multiple tire size and rim designations to appear on the placard and label.

With regard to its requests concerning optional tire sizes and applicable inflation pressures and multiple tire size/rim designations, VW stated that it currently uses pre-printed labels that include all available tire options and that it would be costly to separately print labels for each option. Also, VW stated that for its non-passenger cars, it has been providing this information on either the certification label or another label that largely mirrors the certification label and to change the format of these labels would be costly to it. Additionally, it stated that a dealer may change the tires that were installed on the vehicle at the time of manufacture, and thus the information on that tire on the placard would be incorrect. Lastly, VW argued that vehicle owners may not be aware that tire option information or multiple tire size/rim designations are available on a separate label or in the owner's manual.

ETRTO petitioned NHTSA to amend the final rule to allow the actual front and rear axle weight to appear on the vehicle placard. NTEA suggested that the placard make it clear that axle overloading by consumers relying upon the loading information provided on the placard is not a safety defect. These commenters asserted that maximum load capacity is of no use if the customer cannot check compatibility with the GAWR and that consumers, with the information provided on the placard, could still overload one of the axles without exceeding the vehicle capacity weight.

The agency continues to believe that allowing the additional information such as optional tire and rim sizes, inflation pressures, alternative label locations, and axle weights, on the placard and label is not appropriate because listing such information in addition to the original tire size designation and the corresponding recommended inflation pressure would overcrowd the already content rich vehicle placard.

The agency considered the arguments presented by petitioners with respect to dealers possibly installing optional tires or rims that differ from those installed by the manufacturer, and consequently, the placard may not accurately reflect the correct inflation pressures or loading characteristics for that vehicle. First, we note that optional tire sizes recommended by vehicle manufacturers often have the same recommended inflation pressures as the original equipment tires. Second, dealers are not permitted to sell non-complying vehicles or take actions which would take a vehicle out of compliance with the applicable safety standards.¹² Therefore, if a dealer substitutes tires in such a way that the placard was no longer accurate, the dealer would need to affix a new placard. To make this clear, we have amended the language of S4.3(d) of FMVSS 110.

¹² See 49 U.S.C. 30122, which prohibits “making inoperative, in whole or in part” any part of a device or element of design installed on or in a motor vehicle in compliance with an applicable motor vehicle safety standard.

With regard to the request to include axle weights on the placard, the agency points out that this information is provided on the certification label and, if the manufacturer chooses, can be included in the owner's manual.

The agency, similarly, continues to view the service description as non-critical information that should not appear on the placard or label. Petitioners have not been able to demonstrate to the agency that the two labeling items contained in the service description, speed-category symbol and load index,¹³ effectively communicate everyday tire maintenance and safety information to the U.S. public. Both these items provide the sort of information that is not intuitive to consumers and would require vehicle operators to look to the owner's manual in order to determine the actual maximum load and maximum rated speed of the tire. We note that manufacturers may continue labeling tires with this optional information, but the agency will not permit this information to be placed on the vehicle placard and label.¹⁴

¹³ Under these regulations, the speed-category symbol and the load index are to be placed together near the size designation. For example, the sidewall would contain the size designation “P215/65R15 89H” where “H” is the speed-category symbol and “89” is the load index.

¹⁴ We note that Figure 2 of the November 2002 final rule incorrectly contained the load index and the speed category symbol. This document contains corrected figures depicting the tire information label and the tire placard. The load index and the speed category symbol have been excluded from the revised figures.

In sum, the agency believes that overcrowding the vehicle placard and tire inflation pressure label with information considered non-critical for regular maintenance would discourage the use of tire inflation pressure information on the placard and/or the label. Additionally, vehicle manufacturers may place this information on the certification label or include it in the owner's manual. Accordingly, the agency is not amending its general prohibition against “other information” being added to the vehicle placard and label.

Several petitioners presented novel requests for changes and clarifications of the new labeling requirements that have not been previously contemplated by this agency. These issues are discussed below.

The Alliance stated that since the vehicle placard would now be required on vehicles that contain more than one rear seating area/row, the agency should clarify whether manufacturers may show rear seating capacity individually by row rather than as a total for all rear rows.

NHTSA does not believe that it is necessary for manufacturers to separate rear seat information by rows because the presence of seat belts will indicate to vehicle operators the number of designated seating positions in each row. Additionally, the agency anticipates that seating designation information would be contained in the owner's manual. Because this information is non-critical and otherwise available to the vehicle operator, the vehicle placard may not indicate the rear seating capacity by row. Instead, the placard must indicate the total number of rear seats, i.e. all seats located in rear designated seating positions.

The Alliance and VW requested that NHTSA allow a barcode or partial number of the VIN to be added to the placard. They stated that because many vehicles will require unique labeling under this final rule, this type of information is needed to manage and track the accuracy of the placard or label application.

NHTSA agrees with these petitioners that tracking and coordinating the correct application of unique placards and labels to vehicles has become more complicated under the final rule and that enabling this task to be done correctly is an important concern. For these reasons, we are allowing vehicle manufacturers to place an optional identifier on the placard and label. This optional identifier (as indicated in the revised Figures 1 and 2 of FMVSS No. 110), must be located in the lower right hand corner of the placard or label and orientated vertically to the right of the “See Owner's Manual for Additional Information” block of text.

RMA and the Alliance petitioned the agency to amend the final rule to allow placement of a load identification, e.g., “XL” or “Reinforced,” on the placard or label. The Alliance stated that it is not clear under the final rule whether the designation for reinforced or extra load tires is included in the description for “tire size designation.” RMA argued that the designation of extra load passenger tires is critical information to communicate with consumers so they are able to make appropriate, safety based decisions in the selection and use of replacement tires.

NHTSA anticipates that there are very few vehicles in the affected weight category that would be equipped with these types of tires as original equipment. However, the agency agrees with petitioners that when the vehicles are equipped with these tires, consumers should be made aware of this information so that they know to replace them with tires capable of holding a similar load. Therefore, NHTSA is amending the final rule to allow load identification, labeled as “XL” or “reinforced”, after the tire size designation.

NTEA asked NHTSA to clarify the calculation of wheelchair seating designations for the purpose of determining “vehicle capacity weight” on the placard and label, because § 571.3 specifies that a wheelchair position be counted as 4 designated seating positions. NTEA asserts that consumers will become confused if manufacturers are required to indicate a seating capacity that counts a wheelchair position as 4 positions. NHTSA provides the following clarification. Each wheelchair designation will be counted as only 1 seating position for the purposes of labeling. However, in determining the vehicle capacity weight, NHTSA expects that manufacturers will allocate extra weight necessary for the wheelchair in the calculation of the load that the vehicle and tires must be capable of carrying.

VW, the Alliance, and NTEA made several requests regarding the labeling of spare tire information on the placard and/or label. VW asked the agency to amend the final rule to allow spare tire information to be optional. NTEA asked to be allowed to include the word “none” under the spare tire heading if no spare tire is included on the vehicle. NTEA and the Alliance requested that the agency clarify differences in headings in figures, e.g., “compact spare tire” and “spare” and requested that the agency use “spare” consistently since some vehicles are equipped with full-size spare tires. The Alliance further stated that NHTSA needs to clarify whether pneumatic spare tire information is permitted on the placard since this is not specified as required information in the regulatory text, and the rule specifies that non-required information is not permitted on the label. The Alliance also requested that the agency amend the final rule so that all references in the regulatory text to non-pneumatic tires refer to “non-pneumatic spare tire assembly” instead of non-pneumatic assembly.

The agency believes that consumers need to be aware of the inflation characteristics of spare tires so that they can be maintained properly. Accordingly, we will continue to require that both the placard and the labels contain spare tire information. However, in response to industry requests, the agency will clarify the spare tire information requirements. Specifically, we are amending the final rule to permit the use of word “none” under the spare tire heading, in those instances where original equipment on the vehicle does not include a spare tire. To provide further clarification regarding spare tires, NHTSA is amending its heading on the placard and the label to require the use of either “spare tire” or “spare.” We agree with petitioners that the term “compact spare tire” would not be appropriate or could be potentially confusing if a vehicle was equipped with a full size spare tire.

NHTSA is also amending the regulatory text of FMVSS No. 110 so that the spare tire information included on the label is correctly represented as required information. Additionally, we are amending paragraph S4.3(g) to reference “non-pneumatic spare tire assembly” instead of “non-pneumatic assembly” as stated in the final rule. The analogous provision in the current version of FMVSS No. 110 refers to “non-pneumatic spare tire assembly.” The agency inadvertently omitted the words “spare tire” from this phrase when drafting the final rule and is now correcting this error.

Finally, after reviewing petitions for reconsideration of the November 2002 final rule, we decided to modify the Vehicle Placard in Figure 1 so that the chart within the placard is formatted identically to the chart within the Tire Inflation Pressure Label in Figure 2. We conclude that the chart currently found within Figure 2 is better organized than the chart currently found within Figure 1. We believe that the uniform use of a single chart format will enable consumers to better understand the necessary tire information. Additionally, in those rare instances where a vehicle is equipped with front and rear tires of different sizes, the chart format from the Figure 2 will allow a manufacturer to identify different tires sizes for front and rear tires. The Vehicle Placard in Figure 1 has been revised accordingly. This rule contains updated examples of the Vehicle Placard and the Tire Inflation Pressure Label.¹⁵

¹⁵ Please see Figure 1 and Figure 2 respectively.

2. Location

Paragraph S4.3 of FMVSS No. 110 requires the placard be permanently affixed to the driver's side B-pillar. If the vehicle lacks a B-pillar on the driver's side, the placard must be permanently affixed to the edge of the driver's side door. If the vehicle lacks a driver's side B-pillar and either has a driver's side door whose edge is too narrow to permit the affixing of the placard or lacks a driver's side door, the placard must be affixed to the inward facing surface of the vehicle next to the driver's seating position. This paragraph also requires the tire inflation pressure label, if present, to be permanently affixed and proximate to the placard.

The Alliance petitioned the agency to amend the final rule to allow alternate locations for the vehicle placard and tire label. The Alliance stated that the B-pillars of some vehicle do not have sufficient flat surface to design a placard that is “legible, visible and prominent.” They also stated that some vehicles lack a conventional B-pillar and are equipped with 2 doors opening in opposite directions. In these vehicles, the Alliance argues, the front-facing edge of the rear door is in a vehicle position similar to the B-pillar. The Alliance asserted that if manufacturers were required to design a label that would fit the available space, it might result in a label that is difficult to read due to size or angle. The Alliance requested the following alternatives to the B-pillar for placement of the placard and label: (1) Edge of driver's side door, (2) the leading edge of the driver's side rear door if the two doors on the same side of the vehicle open in opposite directions, (3) the inward facing surface of the vehicle next to the driver's seating position, or (4) the outboard side of the instrument panel on the driver's side of the vehicle. In addition to placard location, the Alliance raised several other issues for clarification. First, they asked whether the “inward-facing surface of the vehicle next to the driver's seating position” means the driver's door. They asserted that this surface is often carpeted or textured, making permanent attachment of a label difficult. Second, the Alliance asked whether the placard and label could be placed on the back wall of the cab behind the driver's seat and immediately adjacent to the B-pillar or on the driver's seat pedestal.

The agency stated in the final rule that an important and overriding element of the placard and label location requirements is that they are placed in an accessible and predictable location in motor vehicles. Keeping this goal in mind, the agency has decided to slightly expand the flexibility provided to manufacturers for the location of the placard and label.

For vehicles that lack a conventional B-pillar and have two doors on the same side opening in opposite directions, the agency agrees with the Alliance's argument that the front-facing edge of the rear door is in a vehicle position similar to the B-pillar. In fact, the agency believes that this location is visually equivalent. Therefore, while the agency will continue to require that the placard be permanently affixed to the driver's side B-pillar, it will, in the case of a vehicle with no B-pillar and two side doors opening in opposite directions, specify that the placard be located on the forward edge of the rear door.

However, if the B-pillar or the front-facing edge of the rear door, in vehicle without a B-pillar, does contain surface sufficient to permit affixing of a placard that is legible, visible and prominent, the agency will specify that the placard be located on the edge of the driver's side door. Finally, if this location still does not permit affixing of a placard that is legible, visible and prominent, the agency will specify that the placard be affixed to the inward facing surface of the vehicle next to the driver's seating position.

We note that these alternative locations are available only in the event that placement of the placard on the B-pillar, or in vehicle with no B-pillar and two side doors opening in opposite directions, the forward edge of the rear door, is not feasible. The agency continues to believe that a standardized location, with limited alternatives to accommodate special designs, will contribute to consumer awareness of recommended tire inflation pressure and load limits. The agency also notes, as it did in the final rule, that it has provided manufacturers with great flexibility concerning the size, shape and dimension of the placard. This flexibility provides manufacturers with considerable latitude to design the placard and label in a manner that can be configured to different vehicle designs.

In response to the Alliance's request for clarification of whether the “inward-facing surface of the vehicle next to the driver's seating position” means the driver's door, the answer is yes. This surface could include the driver's side door or, if a driver's side door does not exist, it would be the surface located directly to the left of the driver's position. The agency does not agree, however, with the Alliance's assertion that permanent attachment of a placard and label to this surface is difficult because this surface is often carpeted or textured. We note that vehicle manufacturers have, for years, been required to permanently affix rollover and airbag warning labels to sun visors, which are often covered with fabric or textured. It is our understanding that achieving permanency when applying a label to a fabric surface is easily accomplished by heat transferring the labels directly to the material surface. Therefore, NHTSA will not amend the final rule to delete the “inward-facing surface of the vehicle next to the driver's seating position” location for placement of the placard and label.

3. Color

The November 2002 final rule requires that the placard and label conform in color to examples set forth as Figures 1 and 2 of FMVSS No. 110. As indicated in those figures, the agency requires that the tire inflation pressure information be visually separated by a red border from other information on the vehicle placard. The final rule also requires that the tire inflation pressure information appear in black text on a white background and that the phrases “Tire and Loading Information,” “Tire Information,” and “See Owner's Manual For Additional Information” appear in yellow text on a black background.

In its petition, the Alliance requested that the agency amend the final rule to allow black text on a yellow background in those instances in which yellow text is required on a black background. The Alliance asserted that this revision would be consistent with current color schemes on other warning labels. Also, this requested amendment would allow manufacturers to stock pre-printed backgrounds for labels that could then be overwritten with black ink using existing laser printers. Lastly, the Alliance argued that the intent of using yellow to attract attention to the labels is preserved by this request.

The agency has decided to adopt the Alliance's request. The agency agrees that black text on a yellow background would be as noticeable as yellow text on a black background. Therefore, we are amending the final rule to allow manufacturers the option of printing these areas on the placard and label as either black text on a yellow background or yellow text on a black background.

With regard to the use of red ink for print on the placard, NTEA requested clarification of whether the headings and tire pressures listed on the placard and label are required to be in red ink. NTEA also stated that red ink is more susceptible to UV fading and that a significant minority of the population is red/green color blind.

We wish to clarify that the November 2002 final rule required only that the tire inflation pressure information on the vehicle placard be visually separated by a red border from all other information. There were no additional requirements for use of red ink anywhere on the placard or the label.

In sum, the color scheme of the label is black ink on a white background, except for: (a) The tire inflation pressure information on the vehicle placard must be visually separated by a red border; and (b) the phrases “Tire and Loading Information” and “See Owner's Manual” on the vehicle placard, and the phrases “Tire Information” and “See Owner's Manual” on the vehicle label must both appear in yellow text on black background or black text on yellow background.¹⁶

¹⁶ Please see Figure 1 and Figure 2 accompanying this rulemaking. The figures indicate when use of color is required.

4. Trailers

The November 2002 final rule extended application of vehicle labeling provisions to trailers. Several petitioners asked for clarification or presented requests regarding the manner in which the vehicle labeling provisions apply to trailers. NTEA requested that the agency remove the requirement for the “occupant weight” designation from trailer placards. It asserted that this statement implies that trailers are suitable for occupancy during transport and that this implication is dangerous. Similarly, RVIA, NMMA, and NATM suggested that NHTSA, with regards to trailers, delete the reference to occupants in the owner's manual description for determining the correct load limit for the trailer.

NHTSA agrees with petitioners that the references to occupants are not appropriate for determining vehicle load either on the placard or in the owner's manual of trailers. Therefore, the agency is amending the final rule to specify that trailers should use the phrase “the weight of cargo should never exceed XXX kg or XXX lbs.” instead of the currently required vehicle capacity weight statement. Similarly, NHTSA is specifying in the owner's manual descriptions of determining load limits for trailers should not reference occupants. NHTSA is also amending the final rule to specify that the section of the placard containing designated seating capacity information cannot appear on trailer placards.

RVIA petitioned the agency to allow a differently formatted placard for trailers. Except for specifying the removal of references to occupants and seating positions as discussed above, the agency is not granting this request. NHTSA believes that consistency of format will improve consumer use and understanding of the placard and label.

NATM, NMMA, and RVIA asked the agency to specify the location of the placard and label. NATM and NMMA requested that NHTSA require that the placard and label be placed by the certification label in the area specified in § 567.4(d) which states “[t]he label for trailers shall be affixed to a location on the forward half of the left side, such that it is easily readable from outside the vehicle without moving any part of the vehicle.” RVIA petitioned for the agency to mandate that the placard appear in a “conspicuous location” and provided an example of the inside of a cabinet in the trailer.

Prior to NATM's petition, the agency discovered that it had not specified a location requirement for the trailer placard and label. Thereafter, we published a correcting amendment which, for vehicles with a GVWR greater than 10,000 lbs, required the placard and the label to be placed in the area specified in § 567.4.¹⁷ Section 567.4 states “[t]he label for trailers shall be affixed to a location on the forward half of the left side, such that it is easily readable from outside the vehicle without moving any part of the vehicle.” The agency is not adopting RVIA's request that the placard and label be placed in a “conspicuous location.” NHTSA believes that the placard and label should be specified to be in a highly visible and objective location viewable from the outside of the trailer, not in a location, such as the inside of a cabinet or similar location, where the operator would need to know where to look to find the vital information contained on the placard and label.

¹⁷ See 68 FR 37981 (June 26, 2003).

5. Multistage Manufacturers

In the final rule, NHTSA considered labeling issues with respect to multi-stage manufactured and altered vehicles and decided that (1) Incomplete and intermediate manufacturers need not affix a placard to an incomplete vehicle, (2) alterers must affix a new placard, containing information accurate for the altered vehicle, over the placard installed by the vehicle manufacturer, so as to obscure the original placard, and (3) final stage manufacturers must label vehicles with vehicle capacity weight and seating designations “as finally manufactured,” utilizing information contained in the document (“IVD”) required by § 568.4 of part 568, Vehicle Manufactured in Two or More Stages, to be provided by incomplete and intermediate vehicle manufacturers and the information particular to their role in the manufacture of the vehicle.

NTEA petitioned the agency with respect to two multistage manufacturer issues. First, the petitioner requested that NHTSA require the chassis manufacturer to provide the unloaded vehicle weights for the front and rear axles for both complete and incomplete vehicles with factory weight options. NTEA stated that not all manufacturers currently provide this information and the only alternative to calculating weight based on the information provided would be for final stage manufacturers and alterers actually to weigh the vehicle themselves, which is costly and dangerous to the technicians. Second, NTEA asked that NHTSA make it clear that multi-stage manufacturers can rely on either the IVD or on the body builder book weights and other component supplier information to calculate the vehicle capacity weight required to be labeled on the placard.

With regard to the issues presented by NTEA, NHTSA reiterates what it has stated in the final rule, i.e., the final stage manufacturers must themselves determine the unloaded vehicle weight, and the vehicle capacity weight. Under § 568.4(a)(4) and § 568.4(a)(5), incomplete and intermediate vehicle manufacturers are required to provide to the final stage manufacturer a document (“IVD”) containing GVWR. In the event that the final stage manufacturer cannot determine the unloaded vehicle weight and passenger weight, the final stage manufacturer is responsible for determining this information by means including, but not limited to, weighing the final vehicle and/or performing calculations. These calculations cannot be estimated based on GVWR provided in IVD or the body builder book. We are concerned that imprecise estimates may lead to improper certification of vehicle weight and capacity.

While NHTSA recognizes that body builder books provide a useful resource to final stage manufacturers, particularly in instances where the IVD might become separated from the incomplete vehicle to which it relates, we are not specifying that these books can be relied upon instead of the IVD. As stated above, some of the information necessary to enable final stage manufacturers to label vehicles pursuant to the requirements of the November 2002 final rule is included in the IVD provided by incomplete and intermediate manufacturers. NHTSA, however, is taking this opportunity to encourage incomplete and intermediate manufacturers to include their component weight information in the body builder book weights and other component supplier information in order to facilitate the calculation of the vehicle capacity weight by the final stage manufacturers.

We also wish to clarify a statement regarding multistage manufacturer responsibilities in the preamble of the November 2002 final rule. The final rule states, “incomplete and intermediate manufacturers need not affix a placard to an incomplete vehicle * * *” We note that incomplete and intermediate manufacturers in fact cannot affix a placard to an incomplete vehicle. This clarification mirrors the regulatory text of FMVSS No. 110.

6. School Buses

School buses of 10,000 pounds GVWR or less fall under the applicability of FMVSS No. 110 as revised by the final rule. Thomas Built petitioned the agency to exclude school buses from the requirements of the final rule. Thomas Built argued that the number of occupants per seat on a school bus is variable and that professional drivers operate school buses so that the informational requirements of the rule offer little, if any, value.

The agency is denying this petition. While, as Thomas Built argues, the number of occupants per seat on some school buses may vary, school buses with a GVWR of 10,000 pounds or less must, as per paragraph S5(b)(1)(B) of FMVSS No. 222, have seat belts installed at each designated seating position. In other words, the designated number of seating positions on each school bus of 10,000 pounds GVWR or less is known because a seat belt must be installed in those seating positions. Therefore, the manufacturers of these vehicles are capable of labeling the required seating capacity and calculating the required vehicle weight information on the placard.

In response to petitioner's second point, the agency believes that the actual state of knowledge and level of expertise of personnel responsible for operating and maintaining school buses may vary considerably, especially for the smaller buses covered by this rule. For this reason, the agency is not excluding school buses from the requirements of this rule, which provide critical loading and inflation pressure information to the vehicle operators.

7. Other

GM, in a March 21, 2003 letter to the docket, highlighted the need for two technical corrections to the regulatory text of FMVSS 110 S4.3.4(b) and S4.3.4(c). GM pointed out that the language of FMVSS 110 S4.3.4(b) references S4.2 of that standard which, in turn references paragraph S5.5 of FMVSS No. 109 and that that paragraph contains a performance test only applicable to passenger car tires. Since FMVSS No. 110 will now also be applicable to non-passenger car tires, the agency is adding a reference to the analogous test, contained in FMVSS No. 119 S7.4, for non-passenger cars.

GM also highlighted the fact that the final rule regulatory text for paragraph S4.3.4(c) requires that each tire be capable of holding the entire vehicle maximum load and the vehicle normal load. The agency is correcting this error by adding the phrase “on the tire for those vehicle loading conditions” in the regulatory text to make it clear that each tire must be capable of holding its share of the loading conditions rather than the entire loading condition.

The agency was asked by a Mitsubishi whether, in providing the required verbatim statement in owner's manuals concerning steps for determining correct load limit, it is permissible to add metric values where they are not specified in the regulatory text.

In considering this question, we noticed a technical error in the regulatory text for the first step (§ 575.6(a)(5)). The regulatory text specifies that the first step is to “[l]ocate the statement “The combined weight of occupants and cargo should never exceed XXX pounds” on your vehicle's placard.” However, the actual statement on the placard includes metric as well as English units. We are correcting the regulatory text in this rule to accurately reflect the information in the placard.

Mitsubishi's question is also relevant to the fourth step. The regulatory text for this step includes the following statement (again, to be included in the owner's manual): “For example, if the “XXX” amount equals 1400 lbs. and there will be five 150 lb. passengers in your vehicle, the amount of available cargo and luggage load capacity is 650 pounds (1400 − 750 (5 × 150) = 650 lbs.)”.

Vehicle owners in the United States are familiar with English units, and we do not believe it is necessary to require metric units as part of this example. However, if a manufacturer wishes to voluntarily include metric units as well as the specified English units in this statement, we would not consider additional metric units to be inconsistent with the requirement that the statement be “verbatim.” To avoid confusion, however, the entire equation in parentheses at the end of the statement should be provided separately in English and metric units, as the addition of a metric value after each English value could make it difficult to follow the example.

C. Applicability of FMVSS No. 110 and 120

Please note that the agency addressed issues related to the applicability of FMVSS No. 110 and 120 in a technical amendment published on June 26, 2003 (68 FR 37981).

D. Effective Date

In a notice dated June 5, 2003 (68 FR 33655), the agency extended the mandatory compliance date of the vehicle labeling and vehicle owner's manual provisions from September 1, 2003, to September 1, 2004. As discussed above, we are further extending the effective date of the November 2002 final rule to September 1, 2005. The phase-in schedule for tire labeling requirements has been revised to reflect the change in the initial effective date. Additionally, the manufacturers need not comply with the requirement that the full TIN be located on the intended outboard sidewall until September 1, 2009.

JATMA submitted a letter in August 2003, noting that it had not yet received a response to its petition for reconsideration, and stating that “[o]ur member companies are currently waiting for the agency's reconsideration, and, as a result, we do not have adequate time to comply with the phase-in schedule for tire markings commenc[ing] on September 1, 2004.” JATMA requested that the agency provide at least 12 months lead time for the commencement of the phase-in schedule after the agency's response.

In response to Jamal's petition, we first note that all manufacturers affected by the November 2002 final rule should have been planning to comply with the requirements of that rule notwithstanding the outcome of any petitions for reconsideration. As previously stated by this agency, a pending petition for reconsideration does not toll the effective date of the subject final rule. NHTSA carefully considers all petitions for reconsideration arising from promulgation of new rules. After careful review, the agency decides whether to grant the petitions and whether to modify the rule. However, NHTSA's response to such petitions is prospective, and in the interim, the final rule remains effective as originally issued. Because the manufacturers cannot assume that the requested changes will be made in response to petitions for reconsideration, they must comply or take the necessary steps in order to timely comply with the original requirements of the subject final rule.

Notwithstanding our policy, we are extending the effective date to September 1, 2005, because this rulemaking makes several changes to the Vehicle Placard and Tire Inflation Pressure Label. We anticipate that preparing the placards or labels containing the necessary changes may require more than 6 months that is currently available until the previous effective date of September 1, 2004. Accordingly, the new effective date for vehicle labeling requirements is September 1, 2005. We note that the phase-in schedule also begins on September 1, 2005.

E. Conforming Amendments

The November 2002 final rule on tire labeling excluded motorcycle tires and specialty tires produced for antique vehicles (vehicles produced before 1975) from the applicability of FMVSS No. 139 labeling requirements. In the June 2003 final rule on tire performance upgrade, the agency additionally decided to exclude bias ply, special tires (ST) for trailers in highway service, tires for use on farm implements (FI) in agricultural service with intermittent highway use, and tires with rim diameters of 8 inches and below from the applicability of FMVSS No. 139 performance requirements and stated that these tires would continue to be covered by FMVSS Nos. 109 and 119. In making the latter decision, the agency noted that these tires represent a very small (less than 1 percent) segment of the market for light vehicle tires, are not offered by any vehicle manufacturer on any new passenger car or light truck sold in the U.S., and that the number of miles that they are driven per year on highways is insignificant. For these same reasons, and to maintain consistent labeling and performance requirements for tires covered by FMVSS No. 109 and FMVSS No. 139, the agency has decided to make conforming amendments to the heading and application sections of FMVSS No. 139 in this final rule to exclude these same tires, bias ply, ST, FI, and 8-12 rim diameter tires, from the labeling provisions of FMVSS No. 139. As determined in the June 2003 final rule, these tires will continue to be covered by FMVSS No. 109 and 119.

V. Rulemaking Notices and Analyses

A. Executive Order 12866 and DOT Regulatory Policies and Procedures

Executive Order 12866, “Regulatory Planning and Review” (58 FR 51735, October 4, 1993), provides for making determinations whether a regulatory action is “significant” and therefore subject to Office of Management and Budget (OMB) review and to the requirements of the Executive Order. The Order defines a “significant regulatory action” as one that is likely to result in a rule that may:

(1) Have an annual effect on the economy of $100 million or more or adversely affect in a material way the economy, a sector of the economy, productivity, competition, jobs, the environment, public health or safety, or State, local, or Tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.

This rulemaking action was not reviewed under Executive Order 12866. The rulemaking action is not significant under Department of Transportation regulatory policies and procedures. The effect of the action is to clarify existing requirements. It does not increase or decrease the legal obligations of any person under the November 2002 final rule. Thus, this action does not change the impacts estimated in the final regulatory evaluation for that rule.

B. Regulatory Flexibility Act

The Regulatory Flexibility Act of 1980 (5 U.S.C. 601 et seq.) requires agencies to evaluate the potential effects of their proposed and final rules on small business, small organizations and small governmental jurisdictions. I hereby certify that the amendments would not have a significant economic impact on a substantial number of small entities.

The effect of the rulemaking action is to clarify existing requirements. Accordingly, this rulemaking will not change the effects of the November 2002 final rule on small business, small organizations and small governmental jurisdictions.

C. National Environmental Policy Act

NHTSA has analyzed this final rule for the purposes of the National Environmental Policy Act. The agency has determined that implementation of this action does not have any significant impact on the quality of the human environment.

D. Executive Order 13132 (Federalism)

The agency has analyzed this rulemaking in accordance with the principles and criteria contained in Executive Order 13132 and has determined that it does not have sufficient Federal implications to warrant consultation with State and local officials or the preparation of a federalism summary impact statement. The final rule does not have any substantial impact on the States, or on the current Federal-State relationship, or on the current distribution of power and responsibilities among the various local officials.

E. Unfunded Mandates Act

The Unfunded Mandates Reform Act of 1995 (Public Law 104-4) requires agencies to prepare a written assessment of the costs, benefits and other effects of proposed or final rules that include a Federal mandate likely to result in the expenditure by State, local or tribal governments, in the aggregate, or by the private sector, of more than $100 million annually (adjusted annually for inflation with base year of 1995). Adjusting this amount by the implicit gross domestic product price deflator for the year 2000 results in $109 million (106.99/98.11 = 1.09). The assessment may be included in conjunction with other assessments, as it is here.

This final rule will not result in expenditures by State, local, or tribal governments or tire suppliers of more than $109 million annually.

F. Civil Justice Reform

This final rule does not have any retroactive effect. Under 49 U.S.C. 21403, whenever a Federal motor vehicle safety standard is in effect, a State may not adopt or maintain a safety standard applicable to the same aspect of performance which is not identical to the Federal standard, except to the extent that the state requirement imposes a higher level of performance and applies only to vehicles procured for the State's use. 49 U.S.C. 21461 sets forth a procedure for judicial review of final rules establishing, amending or revoking Federal motor vehicle safety standards. That section does not require submission of a petition for reconsideration or other administrative proceedings before parties may file suit in court.

G. Paperwork Reduction Act

This final rule; response to petitions for information contains “collections of information,” as that term is defined at 5 CFR part 1320 Controlling Paperwork Burdens on the Public. In the NPRM (66 FR 65535, December 19, 2001) and final rule (67 FR 69500, November 18, 2002), NHTSA provided the following burden hour estimates for the collections of information associated with this rulemaking, and provided 60-day public comment periods:

Revision of a Currently Approved Collection, OMB Clearance No. 2127-0503, Tires and Rim Labeling, and Vehicle Placard Requirements. In the November 18, 2002, document, NHTSA estimated that the final rule would result in an additional hourly burden to Clearance No. 2127-0503 of 111,539 hours for tire labeling and 25,184 hours for the vehicle placard requirements. NHTSA estimated the final rule would result in an initial cost burden for tire labeling of $23.4 million an annual cost burden for tire labeling of $0. The estimated total annual cost burden for vehicle placards is approximately $0.7 million.

In today's final rule, NHTSA is changing the scope of tire labeling requirements by permitting tire manufacturers to mark the optional code of the TIN on only one side of the tire, and to exclude retreaded tires from the requirement to have the TIN information on both sidewalls and the full TIN on the “intended outboard sidewall” of the tires. The changes should result in somewhat fewer burden hours imposed on tire manufacturers. However, especially in light of the small market share of retreaded tires, NHTSA will continue to ask for a clearance of an additional 111,539 hours for tire labeling for Clearance No. 2127-0503, to ensure that it is not underestimating its proposed burdens on the public. The estimated initial cost burden for tire labeling remains at $23.4 million.

For the collection of information associated with the vehicle placard and label, NHTSA is not changing the scope of the collection of information and is not amending its general prohibition against “other information” added to the vehicle placard and label. Thus, the estimated additional collection of information remains at 25,184 burden hours and $.07 million in cost burdens for the vehicle placard requirements.

Revision of a Currently Approved Collection, OMB Clearance No. 2127-0541, Consolidated Vehicle Owner's Manual Requirements of Motor Vehicles and Motor Vehicle Equipment. In the November 18, 2002, document, NHTSA estimated that the final rule would result in an additional hourly burden of 400 hours to Clearance No. 2127-0541, and estimated the total annual cost burden for revising the owner's manuals to be approximately $1.9 million.

In today's final rule, NHTSA is permitting the addition of metric values to the required statement in owner's manuals in determining the correct load limit. Since NHTSA does not believe this change will affect the estimated collection of information burden associated with the owner's manual requirement, the estimate remains at 400 burden hours and approximately $1.9 million in total annual cost burden.

Request for Approval of a New Collection, No OMB Clearance No, Tire Manufacturer Phase-In Reporting Requirements. In the November 18, 2002, document, NHTSA announced this new proposed collection of information, and estimated that total annual reporting and recordkeeping burden would be 6,048 hours. NHTSA estimated that there would be no costs resulting from this new collection because manufacturers are already compiling annual production information for their own uses. Today's final rule would not result in a change in the estimated number of burden hours or costs, but each report will be due from manufacturers a year later than the dates specified in the November 18, 2002, final rule. Thus, the manufacturers of new pneumatic tires for use on vehicles with a gross vehicle weight rating of 10,000 pounds or less will provide tire production data yearly from September 1, 2005, through September 1, 2007.

NHTSA is preparing its request to OMB for clearance of the collections of information associated with this rulemaking. The public will have a 30-day period to provide comments on NHTSA's proposed collections when NHTSA's request reaches OMB.

H. Privacy Act

Anyone is able to search the electronic form of all comments received into any of our dockets by the name of the individual submitting the comment (or signing the comment, if submitted on behalf of an association, business, labor union, etc.). You may review DOT's complete Privacy Act Statement in the Federal Register published on April 11, 2000 (volume 65, number 70; pages 19477-78), or you may visit http://dms.dot.gov.

VI. Regulatory Text

List of Subjects in 49 CFR Parts 571, 574, and 575

Imports, Certification, Consumer information, Motor vehicle safety, Motor vehicles, Rubber and rubber products, and Tires.

In consideration of the foregoing, the final rule amending 49 CFR parts 567, 571, 574, 575, and 597, published at 67 FR 69600 (November 18, 2002), as amended at 68 FR 33655 (June 5, 2003) by delaying the effective date, and further amended at 68 FR 37981 (June 26, 2003), is further amended by delaying the effective date from September 1, 2004, to September 1, 2005. In addition, parts 571, 574, and 575 are amended as follows:

PART 571—FEDERAL MOTOR VEHICLE SAFETY STANDARDS

1. The authority citation for part 571 continues to read as follows:

Authority: 49 U.S.C. 322, 2011, 30115, 30166 and 30177; delegation of authority at 49 CFR 1.50.

2. Section 571.110 is amended by revising paragraph S4.3, adding paragraph S4.3.5, and revising Figures 1 and 2 at the end of § 571.110, to read as follows:

§ 571.110 Standard No. 110—Tire selection and rims for motor vehicles with a GVWR of 4,536 kilograms (10,000 pounds) or less.

* * * * *

S4.3 Placard. Each vehicle, except for a trailer or incomplete vehicle, shall show the information specified in S4.3 (a) through (g), and may show, at the manufacturer's option, the information specified in S4.3 (h) and (i), on a placard permanently affixed to the driver's side B-pillar. In each vehicle without a driver's side B-pillar and with two doors on the driver's side of the vehicle opening in opposite directions, the placard shall be affixed on the forward edge of the rear side door. If the above locations do not permit the affixing of a placard that is legible, visible and prominent, the placard shall be permanently affixed to the rear edge of the driver's side door. If this location does not permit the affixing of a placard that is legible, visible and prominent, the placard shall be affixed to the inward facing surface of the vehicle next to the driver's seating position. This information shall be in the English language and conform in color and format, not including the border surrounding the entire placard, as shown in the example set forth in Figure 1 in this standard. At the manufacturer's option, the information specified in S4.3 (c), (d), and, as appropriate, (h) and (i) may be shown, alternatively to being shown on the placard, on a tire inflation pressure label which must conform in color and format, not including the border surrounding the entire label, as shown in the example set forth in Figure 2 in this standard. The label shall be permanently affixed and proximate to the placard required by this paragraph. The information specified in S4.3 (e) shall be shown on both the vehicle placard and on the tire inflation pressure label (if such a label is affixed to provide the information specified in S4.3 (c), (d), and, as appropriate, (h) and (i)) may be shown in the format and color scheme set forth in Figures 1 and 2.

(a) Vehicle capacity weight expressed as “The combined weight of occupants and cargo should never exceed XXX kilograms or XXX pounds”;

(b) Designated seated capacity (expressed in terms of total number of occupants and number of occupants for each front and rear seat location);

(c) Vehicle manufacturer's recommended cold tire inflation pressure for front, rear and spare tires, subject to the limitations of S4.3.4;

(d) Tire size designation, indicated by the headings “original tire size” or “original size,” and “spare tire” or “spare,” for the tires installed at the time of the first purchase for purposes other than resale;

(e) On the vehicle placard, “Tire and Loading Information and, on the tire inflation pressure label, “Tire Information”;

(f) “See Owner's Manual for Additional Information”;

(g) For a vehicle equipped with a non-pneumatic spare tire assembly, the tire identification code with which that assembly is labeled pursuant to the requirements of S4.3(a) of 571.129, New Non-Pneumatic Tires for Passenger Cars;

(h) At the manufacturer's option, a bar code or VIN located vertically on the right-hand edge of the placard and label; and

(i) As appropriate, the tire load identification “XL” or “reinforced.”

* * * * *

S4.3.5 Requirements for trailers. Each trailer, except for an incomplete vehicle, must show the information specified in S4.3 (c) through (g), and may show the information specified in S4.3 (h) and (i), on a placard permanently affixed proximate to the certification label specified in 49 CFR part 567. Additionally, each trailer must on its placard contain a cargo capacity statement expressed as “The weight of cargo should never exceed XXX kilograms or XXX pounds” in the same location on the placard specified for the “vehicle capacity weight” statement required by this standard. At the manufacturer's option, the information specified in S4.3 (c), (d), (h) and (i) may be shown, alternatively, on a tire inflation pressure label, and conform in color and format, not including the border surrounding the entire label, as specified in the example set forth in Figure 2 in this standard. The label shall be permanently affixed and proximate to the placard required by this paragraph. The information specified in S4.3 (e) shall be shown on both the vehicle placard and on the tire inflation pressure label (if such a label is affixed to provide the information specified in S4.3 (c), (d), (h) and (i)) in the format and color scheme set forth in Figures 1 and 2.

* * * * *

BILLING CODE 4910-59-P

BILLING CODE 4910-59-C

3. Section 571.117 is amended by revising paragraphs S6.3, S7.1, S7.2 and S7.3 to read as follows:

§ 571.117 Standard No. 117; Retreaded pneumatic tires.

* * * * *

S6.3. Labeling. Each retreaded tire shall comply, according to the phase-in schedule specified in S7 of this standard, with the requirements of S5.5 and S5.5.1 of § 571.139.

* * * * *

S7.1. Tires retreaded on or after September 1, 2005 and before September 1, 2006. For tires manufactured on or after September 1, 2005 and before September 1, 2006, the number of tires complying with S6.3 of this standard must be equal to not less than 40% of the retreader's production during that period.

S7.2. Tires retreaded on or after September 1, 2006 and before September 1, 2007. For tires manufactured on or after September 1, 2006 and before September 1, 2007, the number of tires complying with S6.3 of this standard must be equal to not less than 70% of the retreader's production during that period.

S7.3. Tires retreaded on or after September 1, 2007. Each tire must comply with S6.3 of this standard.

4. Section 571.129 is amended by revising paragraphs S4.3, S7.1, S7.2 and S7.3 to read as follows:

§ 571.129 Standard No. 129; New non-pneumatic tires for passenger cars.

* * * * *

S4.3. Labeling requirements. Each new non-pneumatic tire shall comply, according to the phase-in schedule specified in S7 of this standard, with the requirements of S5.5 and S5.5.1 of § 571.139.

* * * * *

S7.1. Tires manufactured on or after September 1, 2005 and before September 1, 2006. For tires manufactured on or after September 1, 2005 and before September 1, 2006, the number of tires complying with S4.3 of this standard must be equal to not less than 40% of the manufacturer's production during that period.

S7.2. Tires manufactured on or after September 1, 2006 and before September 1, 2007. For tires manufactured on or after September 1, 2006 and before September 1, 2007, the number of tires complying with S4.3 of this standard must be equal to not less than 70% of the manufacturer's production during that period.

S7.3. Tires manufactured on or after September 1, 2007. Each tire must comply with S6.3 of this standard.

5. Section 571.139 is amended by revising its heading, S2, S5.5, S5.5.1, 5.5.4, S7.1, S7.2 and S7.3 to read as follows:

§ 571.139 Standard No. 139; New pneumatic radial tires for light vehicles.

* * * * *

S2. Application. This standard applies to new pneumatic radial tires for use on motor vehicles (other than motorcycles and low speed vehicles) that have a gross vehicle weight rating (GVWR) of 10,000 pounds or less and that were manufactured after 1975. This standard does not apply to special tires (ST) for trailers in highway service, tires for use on farm implements (FI) in agricultural service with intermittent highway use, and tires with rim diameters of 8 inches and below.

* * * * *

S5.5 Tire Markings. Except as specified in paragraphs (a) through (h) of S5.5, each tire must be marked on each sidewall with the information specified in S5.5 (a) through (d) and on one sidewall with the information specified in S5.5 (e) through (h) according to the phase-in schedule specified in S7 of this standard. The markings must be placed between the maximum section width and the bead on at least one sidewall, unless the maximum section width of the tire is located in an area that is not more than one-fourth of the distance from the bead to the shoulder of the tire. If the maximum section width falls within that area, those markings must appear between the bead and a point one-half the distance from the bead to the shoulder of the tire, on at least one sidewall. The markings must be in letters and numerals not less than 0.078 inches high and raised above or sunk below the tire surface not less than 0.015 inch.

(a) The symbol DOT, which constitutes a certification that the tire conforms to applicable Federal motor vehicle safety standards;

(b) The tire size designation as listed in the documents and publications specified in S4.1.1 of this standard;

(c) The maximum permissible inflation pressure, subject to the limitations of S5.5.4 through S5.5.6 of this standard;

(d) The maximum load rating;

(e) The generic name of each cord material used in the plies (both sidewall and tread area) of the tire;

(f) The actual number of plies in the sidewall, and the actual number of plies in the tread area, if different;

(g) The term “tubeless” or “tube type,” as applicable; and

(h) The word “radial,” if the tire is a radial ply tire.

S5.5.1 Tire identification number.

(a) Tires manufactured before September 1, 2009. Each tire must be labeled with the tire identification number required by 49 CFR part 574 on a sidewall of the tire. Except for retreaded tires, either the tire identification number or a partial tire identification number, containing all characters in the tire identification number, except for the date code and, at the discretion of the manufacturer, any optional code, must be labeled on the other sidewall of the tire.

(b) Tires manufactured on or after September 1, 2009. Each tire must be labeled with the tire identification number required by 49 CFR part 574 on the intended outboard sidewall of the tire. Except for retreaded tires, either the tire identification number or a partial tire identification number, containing all characters in the tire identification number, except for the date code and, at the discretion of the manufacturer, any optional code, must be labeled on the other sidewall of the tire. Except for retreaded tires, if a tire does not have an intended outboard sidewall, the tire must be labeled with the tire identification number required by 49 CFR part 574 on one sidewall and with either the tire identification number or a partial tire identification number, containing all characters in the tire identification number except for the date code and, at the discretion of the manufacturer, any optional code, on the other sidewall.

* * * * *

S5.5.4 For passenger car tires, if the maximum inflation pressure of a tire is 240, 280, 290, 300, 330, 340, 350 or 390 kPa, then:

(a) Each marking of that inflation pressure pursuant to S5.5(c) must be followed in parenthesis by the equivalent psi, rounded to the next higher whole number; and

(b) Each marking of the tire's maximum load rating pursuant to S5.5(d) in kilograms must be followed in parenthesis by the equivalent load rating in pounds, rounded to the nearest whole number.

* * * * *

S7.1 Tires manufactured on or after September 1, 2005 and before September 1, 2006. For tires manufactured on or after September 1, 2005 and before September 1, 2006, the number of tires complying with S4, S5.5, S5.5.1, S5.5.2, S5.5.3, S5.5.4, S5.5.5, and S5.5.6 of this standard must be equal to not less than 40% of the manufacturer's production during that period.

S7.2 Tires manufactured on or after September 1, 2006 and before September 1, 2007. For tires manufactured on or after September 1, 2006 and before September 1, 2007, the number of tires complying with S4, S5.5, S5.5.1, S5.5.2, S5.5.3, S5.5.4, S5.5.5, and S5.5.6 of this standard must be equal to not less than 70% of the manufacturer's production during that period.

S7.3 Tires manufactured on or after September 1, 2007. Each tire must comply with S4, S5.5, S5.5.1, S5.5.2, S5.5.3, S5.5.4, S5.5.5, and S5.5.6 of this standard.

PART 574—TIRE IDENTIFICATION AND RECORDKEEPING

6. The authority citation for 49 CFR part 574 continues to read as follows:

Authority: 15 U.S.C. 1392, 1401, 1403, 1407, 1411-1420, 1421; delegation of authority at CFR 1.50.

7. Section 574.5 is amended by revising paragraph (d) to read as follows:

§ 574.5 Tire identification requirements.

* * * * *

(d) Fourth grouping. The fourth grouping, consisting of four numerical symbols, must identify the week and year of manufacture. The first two symbols must identify the week of the year by using “01” for the first full calendar week in each year, “02” for the second full calendar week, and so on. The calendar week runs from Sunday through the following Saturday. The final week of each year may include not more than 6 days of the following year. The third and fourth symbols must identify the year. Example: 0101 means the 1st week of 2001, or the week beginning Sunday, January 7, 2001, and ending Saturday, January 13, 2001. The symbols signifying the date of manufacture shall immediately follow the optional descriptive code (paragraph (c) of this section). If no optional descriptive code is used, the symbols signifying the date of manufacture must be placed in the area shown in Figures 1 and 2 of this section for the optional descriptive code.

* * * * *

PART 575—CONSUMER INFORMATION

8. The authority citation for part 575 continues to read as follows:

Authority: 15 U.S.C. 322, 30111, 30115, 30117, and 30166; delegation of authority at CFR 1.50.

9. Section 575.6 is amended by revising paragraphs (a)(4) introductory text and (a)(5) to read as follows:

§ 575.6 Requirements.

* * * * *

(a) * * *

(4) When a motor vehicle that has a GVWR of 10,000 pounds or less, except a motorcycle or low speed vehicle, and that is manufactured on or after September 1, 2005, is delivered to the first purchaser for purposes other than resale, the manufacturer shall provide to the purchaser, in writing in the English language and not less than 10 point type, a discussion of the items specified in paragraphs (a)(4)(i) through (v) of this section in the owner's manual, or, if there is no owner's manual, in a document:

* * * * *

(5) When a motor vehicle that has a GVWR of 10,000 pounds or less, except a motorcycle or low speed vehicle, and that is manufactured on or after September 1, 2005, is delivered to the first purchaser for purposes other than resale, the manufacturer shall provide to the purchaser, in writing in the English language and not less than 10 point type, the following verbatim statement, as applicable, in the owner's manual, or, if there is no owner's manual, in a document:

(i) For vehicles except trailers: “Steps for Determining Correct Load Limit—

(1) Locate the statement “The combined weight of occupants and cargo should never exceed XXX kg or XXX lbs.” on your vehicle's placard.

(2) Determine the combined weight of the driver and passengers that will be riding in your vehicle.

(3) Subtract the combined weight of the driver and passengers from XXX kg or XXX lbs.

(4) The resulting figure equals the available amount of cargo and luggage load capacity. For example, if the “XXX” amount equals 1400 lbs. and there will be five 150 lb passengers in your vehicle, the amount of available cargo and luggage load capacity is 650 lbs. (1400-750 (5 × 150) = 650 lbs.)

(5) Determine the combined weight of luggage and cargo being loaded on the vehicle. That weight may not safely exceed the available cargo and luggage load capacity calculated in Step 4.

(6) If your vehicle will be towing a trailer, load from your trailer will be transferred to your vehicle. Consult this manual to determine how this reduces the available cargo and luggage load capacity of your vehicle.”

(ii) For trailers: “Steps for Determining Correct Load Limit—

(1) Locate the statement “The weight of cargo should never exceed XXX kg or XXX lbs.” on your vehicle's placard.

(2) This figure equals the available amount of cargo and luggage load capacity.”

(3) Determine the combined weight of luggage and cargo being loaded on the vehicle. That weight may not safely exceed the available cargo and luggage load capacity.

PART 597—TIRES FOR MOTOR VEHICLES WITH A GVWR OF 10,000 POUNDS OR LESS PHASE-IN REPORTING REQUIREMENTS

10. The authority citation for part 597 continues to read as follows:

Authority: 49 U.S.C. 322, 30111, 30115, 30117, and 30166; delegation of authority at CFR 1.50.

11. Section 597.6 is amended by revising the first sentence of paragraph (a) to read as follows:

§ 597.6 Reporting requirements.

(a) General reporting requirements. Within 60 days after the end of the production years ending August 31, 2006 and August 31, 2007, each manufacturer shall submit a report to the National Highway Traffic Safety Administration concerning its compliance with Standard No. 139 (49 CFR 571.139) for its tires produced in that year for motor vehicles with a GVWR of 10,000 pounds or less. * * *

* * * * *

Issued: May 20, 2004.
Jeffrey W. Runge,
Administrator.

[FR Doc. 04-11963 Filed 6-2-04; 8:45 am]

BILLING CODE 4910-59-P